FEDERAL COMMUNICATIONS COMMISSION

47 CFR Part 64

[CG Docket No. 03-123; FCC 25-35; FR ID 309789]

Telecommunications Relay Service ASCII Format Requirement

AGENCY: Federal Communications Commission.

ACTION: Proposed rule.

SUMMARY: In this document, the Federal Communications Commission (Commission) proposes to modify the Telecommunications Relay Services (TRS) rules to delete the requirement that traditional, Text Telephone (TTY)-based TRS be capable of communicating with the American Standard Code for Information Interexchange (ASCII) format. The record indicates that this format is outdated and rarely used today. Deleting the rule would reduce TRS costs, eliminate an outdated regulatory requirement, and update the Commission's standards to be more consistent with current usage of TTY-based relay service.

DATES: Comments are due on or before September 26, 2025; reply comments are due on or before October 14, 2025.

ADDRESSES: Pursuant to §§ 1.415 and 1.419 of the Commission's rules, 47 CFR 1.415, 1.419, interested parties may file comments and reply comments. Comments may be filed using ECFS. You may submit comments, identified by CG Docket No. 03-123, by the following method:

• Electronic Filers. Comments may be filed electronically using the internet by accessing the ECFS: https://www.fcc.gov/ecfs.

• Paper Filers. Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• People with Disabilities. To request materials in accessible formats for people with disabilities (Braille, large print, electronic files, audio format), send an email to fcc504@fcc.gov or call the Consumer and Governmental Affairs Bureau at (202) 418-0530.

FOR FURTHER INFORMATION CONTACT: Ike Ofobike, Disability Rights Office, Consumer and Governmental Affairs Bureau, at (202) 418-1028, or Ike.Ofobike@fcc.gov.

SUPPLEMENTARY INFORMATION: This is a summary of the Commission's Notice of Proposed Rulemaking (NPRM), in CG Docket No. 03-123, FCC 25-35, adopted on June 26, 2025, released on June 27, 2025. The full text of this document can be accessed electronically via the Commission's Electronic Document Manage System website at https://docs.fcc.gov/public/attachments/FCC-25-35A1.pdf, or via the Commission's Electronic Comment Filing System (ECFS) website at https://www.fcc.gov/ecfs.

Ex Parte Rules. This proceeding shall be treated as a permit-but-disclose proceeding in accordance with the Commission's ex parte rules. 47 CFR 1.1200 et seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the Commission's rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Providing Accountability Through Transparency Act: The Providing Accountability Through Transparency Act, Public Law 118-9, requires each agency, in providing notice of a rulemaking, to post online a brief plain-language summary of the proposed rule. The required summary of the NPRM is available at https://www.fcc.gov/proposed-rulemakings.

Initial Paperwork Reduction Act of 1995 Analysis

The NPRM may contain proposed new or modified information collection requirements. The Commission, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. 3506(c)(4), the Commission seeks specific comment on how it might further reduce the information collection burden for small business concerns with fewer than 25 employees.

Synopsis

1. Title IV of the Americans with Disabilities Act of 1990 (ADA), codified at section 225 of the Communications Act (the Act), as amended, requires the Commission to ensure that TRS is available, to the extent possible and in the most efficient manner, to enable people with hearing or speech disabilities to communicate with other telephone users in a manner that is functionally equivalent to voice communication service. In accordance with this directive, the Commission has adopted mandatory minimum standards for TRS. 47 U.S.C. 225(a)(3), (b)(1). Before 2000, relay services were limited to converting voice communication to text, and vice versa, and were provided via analog telephone networks, with the text being transmitted using a TTY or TTY-compatible device. Since then, the Commission has recognized other forms of TRS as eligible for compensation from the TRS Fund. To make a traditional TRS call, a TTY user calls a TRS relay center and types the number of the person he or she wishes to call. A Communications Assistant at the relay center then makes a voice telephone call to the other party to the call, and relays the call back and forth between the parties by speaking what a text user types, and typing what a voice telephone user speaks.

2. TTYs generally use the Baudot coding format, and today almost all TTY conversation is transmitted in Baudot. When the initial rules for TRS were being adopted, however, the ASCII format was widely used to transmit data and text between personal computers over the telephone network. To ensure that TTY users could access relay services using any text telephone or personal computer, the Commission required that TRS be able to transmit in both ASCII and Baudot, at any speed generally in use. 47 CFR 64.604(b)(1).

3. On August 24, 2022, T-Mobile Accessibility (T-Mobile) filed a Petition for Rulemaking asking the Commission to initiate a rulemaking to amend § 64.604(b)(1) of the Commission's rules by eliminating the reference to ASCII, on the grounds that ASCII is an obsolete and infrequently used format. On November 22, 2024, the Consumer and Governmental Affairs Bureau (Bureau) granted the current providers of TTY-based TRS conditional waivers of the ASCII requirement.

Notice of Proposed Rulemaking

4. The Commission proposes to delete the requirement, codified in § 64.604(b)(1) of the Commission's rules, that TTY-based relay services support the ASCII format. The record indicates that the amount of usage of TTY-based TRS in the ASCII format is exceedingly small. Based on providers' reports, it appears that total ASCII usage of TTY-based TRS did not exceed 87 minutes in April-June 2022, or approximately 0.01% of total TTY-based TRS minutes for that period. There also does not appear to be any prospect of a resurgence in usage of ASCII-based TTY. According to T-Mobile, there are no new ASCII-compatible TTY devices currently available in the market. Further, there is evidence that the ASCII requirement imposes costs on TRS providers and hinders them from implementing service enhancements.

5. Therefore, the Commission tentatively concludes that the objective of section 225 of the Act—to make TRS available to the extent possible, and in the most efficient manner—is no longer served by requiring that TTY-based TRS be capable of communicating in the ASCII format. The Commission seeks comment on its proposal and this tentative conclusion.

6. In addition, as a housekeeping matter, the Commission proposes to delete the second sentence of § 64.604(b)(1) of its rules, which states that “[o]ther forms of TRS are not subject to this requirement.” Because the first sentence of the provision already makes clear that the ASCII-Baudot rule applies only to TTY-based TRS, the second sentence is unnecessary surplusage. The Commission seeks comment on this proposed housekeeping edit.

7. Benefits and Costs. The Commission seeks comment on the specific costs and benefits of its proposal and any alternatives suggested by commenters. The record indicates that eliminating this requirement, so that providers of TTY-based TRS need only support the Baudot format, would reduce providers' hardware costs. The Commission seeks comment on the amount of hardware costs that would be saved by eliminating the ASCII requirement. The Commission also seeks comment on the amount of cost savings associated with network upgrades that would flow from this policy change. Alternatively, given that the ASCII requirement is currently waived, commenters may provide estimates of the hardware and network upgrade costs that would be imposed if the waiver were to expire with no change in the applicable rule.

8. Are there any remaining benefits from the availability of TRS in the ASCII format that could justify the cost of maintaining ASCII capability, notwithstanding the extremely low usage of that format? Is there an identifiable number of consumers who continue to use TTY-based TRS in the ASCII format? If so, why are these consumers still using that format, rather than alternatives such as Baudot-format TRS, real-time text (RTT), internet Protocol Relay Service (IP Relay), or video relay service (VRS)? What are the costs and burdens to any consumers who still need to transition from the ASCII format to an alternative? TTY-based TRS providers state that migrating their remaining ASCII users to alternative options would be seamless, straightforward, and have minimal impact on users. What steps could be taken to mitigate or otherwise limit the costs and burdens to ASCII-users in transitioning to an alternative format or service? Should the Commission encourage TRS providers to provide affected consumers with advance notice and information about other options for continuing access to TTY services?

9. Additionally, the Commission notes that two of the three alternative relay services mentioned above, VRS and IP Relay, are internet-based services, preventing migration to those services by current users of TTY-based TRS in the ASCII format that may not yet have access to broadband services. For such consumers, continuing to use TTY-based service, while switching to the Baudot format, may be the most viable option. The Commission seeks comment on the cost to a consumer of switching from ASCII to Baudot format. Specifically, are consumers that currently use the ASCII format likely to have devices with a Baudot setting, or would they need to purchase a Baudot-compatible device? If the latter, what is the average cost of such devices? For those TRS users living in states with equipment distribution programs that include TTY devices, should the Commission require TRS providers terminating support for the ASCII format to provide information on the program and how to apply? Or, to avoid imposing an undue burden on any TTY user, should the Commission require the TRS provider to offer to make available a Baudot-format TTY at its own expense and without cost to the user? Given how few ASCII-format TTY users there are, would the cost of such a requirement be minimal for the TRS provider? How would this potential one-time cost to transition customers compare to the longer term savings associated with retiring obsolete hardware and software?

10. With the information currently available, the Commission tentatively concludes that the cost savings for TTY service providers outweigh any costs that would be incurred if a small number of ASCII-based TTY users still need to transition to an alternative service. The Commission seeks comment on this tentative conclusion. Comments should be accompanied by data and analysis supporting claimed costs and benefits.

Initial Regulatory Flexibility Analysis

11. As required by the Regulatory Flexibility Act of 1980, as amended, the Commission has prepared an Initial Regulatory Flexibility Analysis (IRFA) concerning the possible or potential impact of the rule and policy changes contained in the NPRM. The Commission invites the general public, in particular small businesses, to comment on the IRFA. Comments must be identified as responses to the IRFA and must be filed by the deadlines provided in the item.

12. Need for, and Objective of, Proposed Rules. In the NPRM, the Commission proposes to amend its rules to eliminate the requirement that TTY relay service providers offer users the service in the ASCII format, as it has become an outdated and infrequently used format.

13. In addition to the near-obsolescence of the ASCII format, the Commission takes these steps because TTY users also have access to Baudot format, which is more commonly used. At present, there are only two providers of TTY-based telecommunications relay service, and usage of ASCII-format TTY totaled less than 100 minutes during three months in 2022, with less than 10 users placing calls in any month. Based on these reports, it appears that total ASCII usage of TTY-based TRS was limited to approximately 0.01% of total TTY-based minutes for that period, while Baudot format TTY would account for the remaining TTY-based minutes. Furthermore, retaining the requirement to support ASCII-format TTY relay service limits the ability of TTY providers to upgrade and improve their networks for delivery of enhanced services. Eliminating the ASCII-support requirement will ultimately benefit both TTY users and providers by facilitating network upgrades by providers while TTY users can continue communicating with Baudot-format TTY or other forms of text-based TRS.

14. Legal Basis. The authority for this proposed rulemaking is contained in §§ 1, (4)(i), (4)(j), and 225 of the Act.

15. Description and Estimate of the Number of Small Entities Impacted. If the proposed amendment is adopted, the rule will affect the obligations of providers of TTY relay services. These services can be included within the economic categories Small Businesses, Small Organizations, Small Governmental Jurisdictions and All Other Telecommunications. The Commission estimates that the majority of “All Other Telecommunications” firms can be considered small.

16. Description of Projected Reporting, Recordkeeping, and Other Compliance Requirements. Currently, there are only two providers of TTY relay service. To facilitate a transition to TTY-based service using the Baudot format, for consumers without access to broadband services, the Commission seeks comment on whether to require small and other TTY providers to provide information about State equipment distribution programs that make Baudot-format TTY-devices available, where available. It also seeks comment on whether to require TRS providers to make available a Baudot-format TTY device to ASCII-format TTY users, without cost to the user. Other than changes resulting from these proposals, TRS compliance requirements would remain unchanged. The Commission requests comment on whether the cost of compliance for these requirements will be minimal for small TRS providers. The information received in comments will help the Commission identify and evaluate relevant compliance matters, costs, and other burdens for small entities that may result from the proposals and inquiries made in the NPRM.

17. Steps Taken to Minimize Significant Impact on Small Entities, and Significant Alternatives Considered. The proposed amendment to the Commission's rules governing TRS is designed to facilitate upgrades to providers' networks by eliminating the requirement to support rarely used ASCII format. This amendment would only affect two TTY relay service providers and a handful of ASCII-format TTY users, who account for a very small number of TTY call minutes. Among the alternatives considered that may impact small entities, NPRM inquires as to whether the Commission should require TRS providers to incur the costs of making Baudot-format TTY devices available given the small number of ASCII-format TTY users. The Commission believes that any burdens on small entities will be offset by decreasing the costs to the networks of supporting the outmoded ASCII format.

18. The Commission seeks comment from all interested parties, particularly those of small business entities. Small entities are encouraged to bring to the Commission's attention any specific concerns they may have with the proposals outlined in the NPRM and outline any suggested alternatives. The Commission expects to consider the economic impact on small entities, as identified in comments filed in response to the NPRM, in reaching its final conclusions and taking action in this proceeding.

19. Federal Rules Which Duplicate, Overlap, or Conflict with, the Commission's Proposals. None.

List of Subjects in 47 CFR Part 64

Communications, Communications common carriers, Communications equipment, Individuals with disabilities, Telecommunications.

Federal Communications Commission.
Katura Jackson,
Federal Register Liaison Officer, Office of the Secretary.

Proposed Rules

For the reasons discussed in the preamble, the Federal Communications Commission proposes to amend 47 CFR part 64 as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 255, 262, 276, 403(b)(2)(B), (c), 616, 620, 716, 1401-1473, unless otherwise noted; Pub. L. 115-141, Div. P, sec. 503, 132 Stat. 348, 1091; Pub. L. 117-338, 136 Stat. 6156.

2. Amend § 64.604 by revising paragraph (b)(1) to read as follows:

§ 64.604 Mandatory minimum standards.

* * * * *

(b) * * *

(1) Baudot. TTY-based relay service shall be capable of communicating with Baudot format.

* * * * *

[FR Doc. 2025-16374 Filed 8-26-25; 8:45 am]

BILLING CODE 6712-01-P